FEDERAL ELECTION COMMISSION

[Notice 2007-2]

Price Index Increases for Expenditure and Contribution Limitations

AGENCY: Federal Election Commission.

ACTION: Notice of expenditure and contribution limitation increases.

SUMMARY: As mandated by provisions of the Bipartisan Campaign Reform Act of 2002 (“BCRA”), the Federal Election Commission (“FEC” or “the Commission”) is adjusting certain expenditure and contribution limitations set forth in the Federal Election Campaign Act of 1971, as amended (“FECA” or “the Act”), to account for increases in the consumer price index. Additional details appear in the supplemental information that follows.

EFFECTIVE DATE: The effective date for the limit at 2 U.S.C. 441a(a)(1)(A) is November 8, 2006. The effective date for the limits at 2 U.S.C. 441a(a)(1)(B), 441a(a)(3), 441a(d) and 441a(h) is January 1, 2007.

FOR FURTHER INFORMATION CONTACT: Mr. Gregory J. Scott, Information Division, 999 E Street, NW., Washington, DC 20463; (202) 694-1100 or (800) 424-9530.

SUPPLEMENTARY INFORMATION: Under the Federal Election Campaign Act of 1971, 2 U.S.C. 431 et seq., as amended by the Bipartisan Campaign Reform Act of 2002, ¹ coordinated party expenditure limits (2 U.S.C. 441a(d)(3)(A) and (B)), and certain contribution limits (2 U.S.C. 441a(a)(1)(A) and (B), (a)(3), (d) and (h)), are adjusted either annually or biennially by the increase in the consumer price index. See 2 U.S.C. 441a(c)(1) and 11 CFR 110.17. The Commission is publishing this notice to announce these limits for 2007 or the 2007-2008 election cycle.

¹ Public Law 107-155, 116 Stat. 81 (Mar. 27, 2002).

Coordinated Party Expenditure Limits for 2007

Under 2 U.S.C. 441a(c), the Commission must adjust the expenditure limitations established by 2 U.S.C. 441a(d) (the limits on expenditures by national party committees, state party committees, or their subordinate committees in connection with the general election campaign of candidates for Federal office) annually to account for inflation. This expenditure limitation is increased by the percent difference between the price index, as certified to the Commission by the Secretary of Labor, for the 12 months preceding the beginning of the calendar year and the price index for the base period (calendar year 1974).

1. Expenditure Limitation for House of Representatives

Both the national and state party committees have an expenditure limitation for each general election held to fill a seat in the House of Representatives. The formula used to calculate the expenditure limitation in a state with more than one congressional district multiplies the base figure of $10,000 by the price index (4.089), rounding to the nearest $100. Based upon this formula, the expenditure limitation for 2007 House elections in those states is $40,900. The formula used to calculate the expenditure limitation in a state with only one congressional district is the greater of: the base figure ($20,000) multiplied by the price index (4.089) (which totals $81,800); or $0.02 multiplied by the voting age population (“VAP”) of the state, multiplied by the price index. Amounts are rounded to the nearest $100. Based upon this formula, the expenditure limitation for 2007 House elections in these states is $81,800. See 2 U.S.C. 441a(d)(3) and 11 CFR 109.32(b).

2. Expenditure Limitation for Senate

Both the national and state party committees have an expenditure limitation for a general election held to fill a seat in the Senate. The formula used to calculate the Senate expenditure limitation considers not only the price index but also the VAP of the state. The expenditure limitation is the greater of: the base figure ($20,000) multiplied by the price index (which totals $81,800); or $0.02 multiplied by the VAP of the state, multiplied by the price index. Amounts are rounded to the nearest $100. See 2 U.S.C. 441a(d)(3) and 11 CFR 109.32(b). The chart below provides the state-by-state breakdown of the 2007 expenditure limitations for Senate elections.

Senate Expenditure Limitations—2007 Elections
State | VAP (in thousands) | VAP × .02 multiplied by the price index (4.089) | Expenditure limit (the greater of the amount in column 3 or $81,800)
Alabama | 3,485 | $285,000 | $285,000
Alaska | 489 | 40,000 | 81,800
Arizona | 4,538 | 371,100 | 371,100
Arkansas | 2,120 | 173,400 | 173,400
California | 26,925 | 2,201,900 | 2,201,900
Colorado | 3,584 | 293,100 | 293,100
Connecticut | 2,687 | 219,700 | 219,700
Delaware | 650 | 53,200 | 81,800
Florida | 14,068 | 1,150,500 | 1,150,500
Georgia | 6,909 | 565,000 | 565,000
Hawaii | 987 | 80,700 | 81,800
Idaho | 1,072 | 87,700 | 87,700
Illinois | 9,617 | 786,500 | 786,500
Indiana | 4,736 | 387,300 | 387,300
Iowa | 2,272 | 185,800 | 185,800
Kansas | 2,068 | 169,100 | 169,100
Kentucky | 3,207 | 262,300 | 262,300
Louisiana | 3,198 | 261,500 | 261,500
Maine | 1,041 | 85,100 | 85,100
Maryland | 4,255 | 348,000 | 348,000
Massachusetts | 4,988 | 407,900 | 407,900
Michigan | 7,617 | 622,900 | 622,900
Minnesota | 3,910 | 319,800 | 319,800
Mississippi | 2,151 | 175,900 | 175,900
Missouri | 4,426 | 362,000 | 362,000
Montana | 727 | 59,500 | 81,800
Nebraska | 1,323 | 108,200 | 108,200
Nevada | 1,861 | 152,200 | 152,200
New Hampshire | 1,017 | 83,200 | 83,200
New Jersey | 6,635 | 542,600 | 542,600
New Mexico | 1,446 | 118,300 | 118,300
New York | 14,792 | 1,209,700 | 1,209,700
North Carolina | 6,701 | 548,000 | 548,000
North Dakota | 491 | 40,200 | 81,800
Ohio | 8,708 | 712,100 | 712,100
Oklahoma | 2,685 | 219,600 | 219,600
Oregon | 2,844 | 232,600 | 232,600
Pennsylvania | 9,636 | 788,000 | 788,000
Rhode Island | 830 | 67,900 | 81,800
South Carolina | 3,282 | 268,400 | 268,400
South Dakota | 587 | 48,000 | 81,800
Tennessee | 4,596 | 375,900 | 375,900
Texas | 17,014 | 1,391,400 | 1,391,400
Utah | 1,759 | 143,900 | 143,900
Vermont | 491 | 40,200 | 81,800
Virginia | 5,836 | 477,300 | 477,300
Washington | 4,870 | 398,300 | 398,300
West Virginia | 1,429 | 116,900 | 116,900
Wisconsin | 4,244 | 347,100 | 347,100
Wyoming | 393 | 32,100 | 81,800

Contribution Limitation Increases for Individuals, Nonmulticandidate Committees and for Certain Political Party Committees Giving to U.S. Senate Candidates for 2007-2008 Election Cycle

BCRA amended the Act to extend inflation indexing to: (1) The limitations on contributions made by persons under 2 U.S.C. 441a(a)(1)(A) (contributions to candidates) and 441a(a)(1)(B) (contributions to national party committees); (2) the biennial aggregate contribution limits applicable to individuals under 2 U.S.C. 441a(a)(3); and (3) the limitation on contributions made to U.S. Senate candidates by certain political party committees at 2 U.S.C. 441a(h) and 2 U.S.C. 441a(c). These contribution limitations are increased by multiplying the respective statutory contribution amount by the percent difference between the price index, as certified to the Commission by the Secretary of Labor, for the 12 months preceding the beginning of the calendar year and the price index for the base period (calendar year 2001). The resulting amount is rounded to the nearest multiple of $100. See 2 U.S.C. 441a(c) and 11 CFR 110.17(b). The Commission has calculated the applicable percent difference to be 13.9 percent. Contribution limitations shall be adjusted accordingly:

Statutory provision | Statutory amount | 2007-2008 limitation
2 U.S.C. 441a(a)(1)(A) | $2,000 | $2,300
2 U.S.C. 441a(a)(1)(B) | 25,000 | 28,500
2 U.S.C. 441a(a)(3)(A) | 37,500 | 42,700
2 U.S.C. 441a(a)(3)(B) | 57,500 | 65,500
2 U.S.C. 441a(h) | 35,000 | 39,900

The increased limitation at 2 U.S.C. 441a(a)(1)(A) is to be in effect for the 2 year period beginning on the first day following the date of the general election in the preceding year and ending on the date of the next regularly scheduled election. Thus the $2,300 figure above is in effect from November 8, 2006, to November 4, 2008. The limitations under 2 U.S.C. 441a(a)(1)(B), 441a(a)(3)(A) and (B), and 441a(h), shall be in effect beginning January 1st of the odd-numbered year and ending on December 31st of the next even-numbered year. Thus the new contribution limits under 2 U.S.C. 441a(a)(1)(B), 441a(a)(3)(A) and (B), and 441a(h) are in effect from January 1, 2007, to December 31, 2008. See 11 CFR 110.17(b)(1).

Dated: January 29, 2007.
Robert D. Lenhard,
Chairman, Federal Election Commission.

[FR Doc. E7-1755 Filed 2-2-07; 8:45 am]

BILLING CODE 6715-01-P